Proclamation 8051 of September 14, 2006

National POW/MIA Recognition Day, 2006

By the President of the United States of America

A Proclamation

As a Nation, we look to our service men and women as examples of courage and sacrifice. When our country and the world have needed brave Americans to advance the cause of freedom, our men and women in uniform have proudly stepped forward and selflessly endured hardships to defend liberty. We are grateful to all who have served, and on National POW/MIA Recognition Day, we give special honor to the extraordinary patriots who have been prisoners of war and to those who are still missing in action. We take inspiration from their valor and loyalty and will not rest until we have accounted for them all.

On National POW/MIA Recognition Day, the National League of Families POW/MIA flag is flown over the White House, the Capitol, the Departments of State, Defense, and Veterans Affairs, the Vietnam Veterans Memorial, Korean War Veterans Memorial, World War II Memorial, U.S. military installations, national cemeteries, and other locations across our country. The POW/MIA flag is a symbol of our Nation's resolve never to forget the service and great sacrifice of the heroes who have carried out liberty's urgent and noble mission, even at the cost of their own freedom. On this day, we express our deep appreciation to each of our Soldiers, Sailors, Airmen, and Marines and our enduring commitment to achieve the fullest possible accounting for all of our men and women in uniform who have been prisoners of war or are missing in action.

NOW, THEREFORE, I, GEORGE W. BUSH, President of the United States of America, by virtue of the authority vested in me by the Constitution and laws of the United States do hereby proclaim Friday, September 15, 2006, as National POW/MIA Recognition Day. I call upon the people of the United States to join me in paying solemn tribute to all former American prisoners of war and those missing in action who valiantly served our great country. I call upon Federal, State, and local government officials and private organizations to observe this day with appropriate ceremonies and activities.

IN WITNESS WHEREOF, I have hereunto set my hand this fourteenth day of September, in the year of our Lord two thousand six, and of the Independence of the United States of America the two hundred and thirty-first.

[FR Doc. 06-7860

Filed 9-18-06; 8:45 am]

Billing code 3195-01-P